FEDERAL DEPOSIT INSURANCE CORPORATION

Designated Reserve Ratio for 2014

AGENCY: Federal Deposit Insurance Corporation (FDIC).

ACTION: Notice of Designated Reserve Ratio for 2014.

Pursuant to the Federal Deposit Insurance Act, the Board of Directors of the Federal Deposit Insurance Corporation designates that the Designated Reserve Ratio (DRR) for the Deposit Insurance Fund shall remain at 2 percent for 2014.¹ The Board is publishing this notice as required by section 7(b)(3)(A)(i) of the Federal Deposit Insurance Act (12 U.S.C. 1817(b)(3)(A)(i)).

¹ Section 327.4(g) of the FDIC's regulations sets forth the DRR. There is no need to amend this provision, because the DRR for 2014 is the same as the current DRR.

FOR FURTHER INFORMATION CONTACT: Munsell St. Clair, Chief, Banking and Regulatory Policy Section, Division of Insurance and Research, (202) 898-8967; or, Christopher Bellotto, Counsel, Legal Division, (202) 898-3801.

Dated at Washington, DC, this 8th day of October 2013.
By order of the Board of Directors.
Robert E. Feldman,
Executive Secretary.

[FR Doc. 2013-24531 Filed 10-21-13; 8:45 am]

BILLING CODE 6714-01-P